DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its Senior Executive Service (SES) Standing Performance Review Boards (PRBs). The purpose of the PRBs is to provide fair and impartial review of SES performance appraisals, bonus recommendations and pay adjustments. The PRBs will make recommendations regarding the final performance ratings to be assigned, SES bonuses and/or pay adjustments to be awarded.

FOR FURTHER INFORMATION CONTACT: Debra M. Tomchek, Director, Personnel Staff, Justice Management Division, Department of Justice, Washington, DC 20530; (202) 514-6788.

Department of Justice, Senior Executive Service Performance Review Board Members

Alcohol, Tobacco, Firearms, and Explosives

Hugo Barrera, Deputy Assistant Director—Field Operations

Michael R. Bouchard, Assistant Director (Field Operations)

Donnie Carter, Division Director, SAC, Houston

James M. Cavanaugh, Director, Nashville Field Division

Richard Chase, Assistant Director (Inspection)

Linda Cureton, Deputy Asst. Director (Science & Technology)

Edgar Domenech, Asst. Director (Liaison and Public Information)

Michael Ethridge, Director, Laboratory Services

Wilfred Ford, SAC Detroit

Donald Kincaid, Division Director, SAC, Los Angeles

Imelda Koett, Associate Chief Counsel (Litigation)

Mark Logan, AD (Training & Professional Development)

Eleanor Loos, Associate Chief Counsel (Admin & Ethics)

John Malone, Division Director, SAC, Washington

Steve Mathis, Deputy Assistant Director (Training & Prof. Dev.)

Candace Moberly, Deputy Asst. Director (Management)

Marguerite Moccia, Assistant Director (Science & Technology)

Walfred Nelson, Dep. Asst. Dir. (Criminal Enforcement Field Ops)

Virginia O'Brien, Deputy Assistant Director (Recruitment & Hiring)

Lewis P. Raden, Assistant Director (Firearms, Explosives & Arson)

Jeffrey Roehm, Deputy Assistant Director (Inspection)

Stephen Rubenstein, Chief Counsel

Melanie Stinnett, Deputy Chief Counsel

James D. Webb, Deputy Assistant Director (Field Office East)

James Zammillo, Deputy Assistant Director (Industrial Ops)

Antitrust Division

Robert E. Connolly, Chief, Philadelphia Field Office

Norman Familant, Chief, Economic Litigation Section

Roger W. Fones, Chief, Transportation/Energy/Agriculture

Ralph T. Giordano, Chief, New York Field Office

Nancy M. Goodman, Chief, Computers & Finance Section

James M. Griffin, Deputy Assistant Attorney General

Scott D. Hammond, Senior Litigator

Edward T. Hand, Chief, Foreign Commerce Section

Kenneth Heyer, Chief, Competition Policy Section

Thoms D. King, Executive Officer

J. Robert Kramer II, Director of Operations

Gail Kursh, Chief, Professions & Intellectual Property

Catherine G. O'Sullivan, Chief, Appellate Section

Marvin N. Price, Jr., Chief, Chicago Field Office

George A. Rozanski, Chief, Economic Regulatory Section

Scott M. Watson, Chief, Cleveland Field Office

Bureau of Prisons

Jose Barron, Jr., Correctional Institution Administrator

Arthur F. Beeler, Jr., Correctional Institution Administrator

Michael L. Benov, Correctional Institution Administrator

Robin L. Beusse, Budget Officer

Joe W. Booker, Jr., Correctional Institution Administrator

Dennis M. Callahan, Correctional Institution Administrator

Joyce K. Conley, Deputy Assistant Director, Administration Division

Randy J. Davis, Correctional Institution Administrator

Charles J. DeRosa, Correctional Institution Administrator

D. Scott Dodrill, Regional Director, Northeast Region

Danny L. Dove, Correctional Institution Administrator

Bernie D. Ellis, Correctional Institution Administrator

Lester E. Fleming, Correctional Institution Administrator

Eddie J. Gallegos, Correctional Institution Administrator

Michael W. Garrett, Assistant Director, Program Review Division

Joseph E. Gunja, Regional Director, Western Region

John C. Hardwick, Deputy Assistant Director, Information, Policy & Public Affairs

Keith E. Hall, Assistant Director, Human Resource Management Division

Billy R. Hedrick, Correctional Institution Administrator

Gregory L. Hershberger, Regional Director, North Central Region

Carlyle I. Holder, Correctional Institution Administrator

Raymond E. Holt, Regional Director, Southeast Region

Robert A. Hood, Correctional Institution Administrator

Martha L. Jordan, Correctional Institution Administrator

Winfred J. Jusino, Correctional Institution Administrator

Thomas R. Kane, Assistant Director, Information, Policy & Public Affairs

Paul F. Kendall, Attorney Advisor General

John J. Lamanna, Correctional Institution Administrator

Whitney I. LeBlanc, Jr., Correctional Institution Administrator

Robert E. McFadden, Correctional Institution Administrator

Fredrick Menifee, Correctional Institution Administrator

Robert D. Miles, Correctional Institution Administrator

Marvin D. Morrison, Correctional Institution Administrator

Michael K. Nalley, Correctional Institution Administrator

Robert J. Newport, Deputy Assistant Director, Administration Division

Keith E. Olson, Correctional Institution Administrator

Thomas C. Peterson, Correctional Institution Administrator

Constance N. Reese, Correctional Institution Administrator

Bruce K. Sasser, Assistant Director, Administration Division

Paul M. Schultz, Correctional Institution Administrator

Steven B. Schwalb, Assistant Director, UNICOR

James E. Slade, Correctional Institution Administrator

Joseph V. Smith, Correctional Institution Administrator

Richard L. Stiff, Correctional Institution Administrator

Ronald G. Thompson, Regional Director, South Central Region

Maryellen Thoms, Assistant Director, Health Services Division

John M. Vanyur, Assistant Director, Correctional Programs Division

Monica S. Wetzel, Correctional Institution Administrator

Kim M. White, Regional Director, MidAtlantic Region

Ronnie Wiley, Correctional Institution Administrator

Troy W. Williamson, Correctional Institution Administrator

David L. Winn, Correctional Institution Administrator

Joseph P. Young, Correctional Institution Administrator

Michael A. Zenk, Correctional Institution Administrator

Civil Division

Gary W. Allen, Branch Director (Torts)

Felix V. Baxter, Branch Director (Federal Programs)

Joann J. Bordeaux, Deputy Branch Director

James G. Bruen Jr., Special Litigation Counsel, Commercial Litigation Branch

David M. Cohen, Branch Director (Commercial)

Anthony J. Coppolino, Special Litigation Counsel

Jeanne E. Davidson, Deputy Branch Director

Sharon Y. Eubanks, Branch Director (Tobacco Litigation)

John L. Euler, Deputy Branch Director

Timothy P. Garren, Branch Director (Torts)

Vincent M. Garvey, Deputy Branch Director

John P. Glynn, Branch Director (Torts)

Michael F. Hertz, Branch Director (Commercial Litigation)

Robert M. Hollis, Special Litigation Counsel (Foreign Litigation)

Joseph H. Hunt, Branch Director (Federal Programs)

Thomas W. Hussey, Director, Office of Immigration Litigation

William G. Kanter, Deputy Director Appellate Staff

James M. Kinsella, Deputy Director, Commercial Litigation Branch

David J. Kline, Deputy Director

J. Christopher Kohn, Branch Director (Commercial)

Robert E. Kopp, Director, Appellate Staff

Douglas N. Letter, Appellate Litigation Counsel

Sheila M. Lieber, Deputy Branch Director

Barbara B. O'Malley, Special Litigation Counsel

Phyllis J. Pyles, Branch Director (Torts)

Jennifer D. Rivera, Branch Director (Federal Programs)

Sandra P. Spooner, Deputy Branch Director (Commercial Litigation)

Mark B. Stern, Appellate Litigation Counsel

Eugene M. Thirolf, Director, Office of Consumer Litigation

Kenneth L. Zwick, Director of Management Programs

Civil Rights Division

Katherine A. Baldwin, Deputy Special Counsel, Immig. Related Unfair Employ. Pract.

Shanetta Y. Brown Cutlar, Chief, Special Litigation Section

David K. Flynn, Chief, Appellate Section

Merrily A. Friedlander, Chief, Coordination & Review Section

Jeremiah Glassman, Chief, Educational Opportunities Section

Irva D. Greene, Executive Officer

Elizabeth Johnson, Deputy Chief, Special Litigation Section

Joan A. Magagna, Deputy Section Chief, Disability Rights Section

Albert N. Moskowitz, Chief, Criminal Section

Joseph D. Rich, Chief, Voting Section

Steven H. Rosenbaum, Chief, Housing and Civil Enforcement Section

John L. Wodatch, Chief, Environmental Enforcement Section

William R. Yeomans, Deputy Chief, Criminal Division

Criminal Division

Carl Alexandre, Director, OPDAT

Jodi L. Avergun, Chief, Narcotics & Dangerous Drug Section

Ronnie L. Edelman, Deputy Chief, Terrorism & Violent Crimes Section

Joseph E. Gangloff, Deputy Chief, Public Integrity Section

John J. Dion, Chief, Internal Security Section

Sidney Glazer, Senior Appellate Counsel

Stuart M. Goldberg, Deputy Chief for Litigation Public Integrity

Noel L. Hillman, Chief, Public Integrity Section

Joshua R. Hochberg, Chief, Fraud Section

Joseph M. Jones, Chief, International Training/Development Program

Maureen H. Killion, Director, Office of Enforcement Operations

Teresa L. McHenry, Chief, Domestic Security Section

Bruce G. Ohr, Chief, Organized Crime & Racketeering Section

Catherine M. Oneil, Director, Organized Crime Drug Enforcement Task Forces

Andrew Oosterbaan, Chief, Child Exploitation and Obscenity Section

Steven J. Parent, Executive Director

Lee J. Radek, Senior Counsel to the Director

James S. Reynolds, Senior Counsel to the Asst. Attorney General

Mark M. Richard, Senior Counsel

Richard M. Rogers, Senior Counsel to the Assistant Attorney General

Eli M. Rosenbaum, Director, Office of Special Investigations

John R. Roth, Chief, Asset Forfeiture & Money Laundering Section

Barry M. Sabin, Chief, Terrorism & Violent Crimes Section

Julie E. Samuels, Director, Office of Policy & Management Analysis

Thomas G. Snow, Deputy Director, Office of International Affairs

Martha J. Stansell Gamm, Chief, Computer Crime & Intellectual Property Section

Patty M. Stemler, Chief, Appellate Section

Carol M. Wilkinson, Principal Deputy Chief, Narc. & Dangerous Drugs Section

Environmental and Natural Resources Division

Samuel C. Alexander, Chief, Indian Resources Section

Robert L. Bruffy, Executive Officer

Virginia P. Butler, Chief, Land Acquisition Section

Fred R. Disheroon, Sr. Special Litigation Counsel-Attorney Examiner

W. Benjamin Fisherow, Deputy Chief, Environmental Enforcement Section

Bruce S. Gelber, Deputy Chief, Environmental Enforcement Section

Letitia J. Grishaw, Chief, Environmental Defense Section

Kevin Haugrud, Chief, General Litigation Section

James C. Kilbourne, Chief, Appellate Section

Joel H. Meshorer, Special Litigation Counsel

Pauline H. Milius, Chief, Policy, Legislation & Spec. Litigation Section

Howard P. Stewart, Senior Litigation Counsel

David M. Uhlmann, Chief, Environmental Crimes Section

Jean E. Williams, Chief, Wildlife & Marine Resources Section

Executive Office for Immigration Review

Charles K. Adkins Blanch, General Counsel

Michael J. Creppy, Chief Immigration Judge

Jack Perkins, Chief Administrative Hearing Officer

Lori L. Scialabba, Chair, Board of Immigration Appeals

Executive Office for United States Trustees

Jeffrey M. Miller, Deputy Director

Clifford J. White III, Deputy Director

Justice Management Division

Linda A. Cinciotta, Sr. Counsel for Alternative Dispute Resolution

Ronald L. Deacon, Director, Facilities Administrative Services Staff

Louis Defalaise, Director, Office of Attorney Personnel Management

Blane K. Dessy, Director, Library Staff

Michael D. Duffy, Director, Telecommunication Services Staff

James L. Dunlap, Director, Security & Emergency Planning Staff

Stuart Frisch, General Counsel

Kathleen A. Haggerty, Director, Debt Collection Management

Dennis J. Heretick, IT Security Project Manager

James W. Johnston, Director, Procurement Services Staff

Jolene A. Lauria Sullens, Director, Budget Staff

Justin R. Linsey, IT Policy and Planning Manager

Theodius McBurrows, Director, Equal Employment Opportunity Staff

John W. Murray, Information Technology Project Manager

David M. Orr, Director, Management & Planning Staff

Michael A. Perez, Associate Director for Finance Management

James E. Price, Director, Computer Services Staff

Walter H. Schultz Jr., Deputy Director, Budget Staff

Debra M. Tomchek, Director, Human Resources

Office of Intelligence Policy and Review

Mark A. Bradley, Deputy Counsel for Intelligence Policy

Margaret A. Skelly Nolen, Deputy Counsel for Intelligence Operations

Office of Justice Programs

Betty M. Chemers, Chief, Evaluation Division

Mark D. Epley, Chief of Staff

Dennis E. Greenhouse, Policy Director

Nelson Hernandez, Director, Community Capacity Development

Carolyn A. Hightower, Program Manager

Harri J. Kramer, Deputy Director for Policy and Management

Rafael A. Madan, General Counsel

John S. Morgan, Assistant Director

Marilyn M. Roberts, Special Advisor

Cynthia J. Schwiner, Comptroller

Nancy L. Segerdahl, Director of Communications

Gary N. Silver, Director of Administration

John J. Wilson, Senior Counsel

David L. Zeppieri, Chief Information Officer

Office of Legal Counsel

Paul P. Colborn, Special Counsel

Daniel L. Koffsky, Special Counsel

Office of Professional Responsibility

Judith E. Wish, Deputy Counsel on Prof Responsibility

Tax Division

Ronald A. Cimino, Chief, Western Region

Stephen J. Csontos, Special Litigation Counsel

John A. Dicicco, Chief, Office of Review

Dennis M. Donohue, Senior Litigation Counsel

Seth G. Heald, Chief, Civil Trial Section, CR

David A. Hubbert, Chief, Civil Trial Section, Eastern Region

Louise P. Hytken, Chief, Civil Trial Section, Southwestern-Region

Michael J. Kearns, Chief, Civil Trial Section-Southern Region

Robert E. Lindsay, Director, Office of Policy & Tax Enforcement

Daniel P. Mullarkey, Chief, Civil Trial Section-North Region

Rosemary E. Paguni, Chief, Criminal Enforcement Section-North Region

Mildred L. Seidman, Chief, Claims Court Section

Robert S. Watkins, Chief, Civil Trial Section-Western Region

Joseph E. Young, Executive Officer

Thomas E. Zehnle, Chief, Criminal Enforcement Section-South Region

United States Marshals Service

Gerald M. Auerbach, General Counsel

Broadine M. Brown, Assistant Director for Management & Budget

Edward Dolan, Chief Financial Officer

Robert J. Finan II, Assistant Director for Investigative Services

Sylvester E. Jones, Assistant Director for Prisoners Service

Gary E. Mead, Assistant Director for Business Services

Michael A. Pearson, Assistant Director for Executive Service

Kenneth L. Pekarek, Assistant Director for JPATS

Arthur D. Roderick, Jr., Assistant Director for Operations Support

Suzanne D. Smith, Assistant Director of Human Resources

Valerie M. Willis,
Executive Secretary, Senior Executive Resources Board.

[FR Doc. 04-17231 Filed 7-28-04; 8:45 am]

BILLING CODE 4410-AR-M